DEPARTMENT OF DEFENSE

Office of the Secretary

[Docket ID: DoD-2016-OS-0007]

Manual for Courts-Martial; Proposed Amendments

AGENCY: Joint Service Committee on Military Justice (JSC), DoD.

ACTION: Annual Review of the Manual for Courts-Martial, United States.

SUMMARY: Pursuant to Executive Order 12473—Manual for Courts-Martial, United States, 1984, and Department of Defense Directive 5500.17, Role and Responsibility of the Joint Service Committee (JSC) on Military Justice, the JSC is conducting its annual review of the Manual for Courts-Martial (MCM), United States.

The committee invites members of the public to suggest changes to the MCM. Please provide supporting rationale for any proposed changes.

DATES: Proposed changes must be received no later than April 5, 2016.

ADDRESSES: You may submit comments, identified by docket number and title, by any of the following methods:

• Federal eRulemaking Portal: http://www.regulations.gov.

Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Captain Harlye S.M. Carlton, USMC, Executive Secretary, JSC, at (703) 693-9299 or via email at harlye.carlton@usmc.mil. The JSC public Web site is located at http://jsc.defense.gov.

Dated: February 2, 2016.
Aaron Siegel,
Alternate OSD Federal Register Liaison Officer, Department of Defense.

[FR Doc. 2016-02290 Filed 2-4-16; 8:45 am]

BILLING CODE 5001-06-P